SUSQUEHANNA RIVER BASIN COMMISSION

Public Hearing and Commission Meeting

AGENCY: Susquehanna River Basin Commission.

ACTION: Notice.

SUMMARY: The Susquehanna River Basin Commission will hold a public hearing as part of its regular business meeting on June 23, 2011, in North East, Maryland. At the public hearing, the Commission will consider: (1) A compliance matter involving one project; (2) the rescission of two docket approvals; (3) action on certain water resources projects; (4) action on seven projects involving a diversion; (5) an administrative appeal of Docket Nos. 20110316, 20110317, and 20110318, by the Allegheny Defense Project; (6) amendments to the Regulatory Program Fee Schedule; and (7) amendment of the Comprehensive Plan for Management of the Water Resources of the Susquehanna River Basin. Details concerning the matters to be addressed at the public hearing and business meeting are contained in the Supplementary Information section of this notice.

DATES: June 23, 2011, at 8:30 a.m.

ADDRESSES: Cecil College, Conference Center, One Seahawk Drive, North East, MD. 21901 (for directions and campus map [Building D], see Web page http://www.cecil.edu/about/map/northeast.asp.)

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net.

SUPPLEMENTARY INFORMATION: In addition to the public hearing and its related action items identified below, the business meeting also includes actions or presentations on the following items: (1) The proposed Water Resources Program and an accompanying presentation on the Commission's Chesapeake Bay related activities; (2) hydrologic conditions in the basin; (3) proposed rulemaking to revise the Commission's project review regulations; (4) a preliminary introduction to dockets; (5) a presentation on a pooled assets concept by PPL, Inc.; (6) acquisition of new SRBC headquarters facilities; (7) adoption of a FY-2013 budget; (8) election of officers for FY-2012; and (9) ratification/approval of grants/contracts. The Commission will also hear Legal Counsel's report.

Public Hearing—Compliance Action

1. Project Sponsor: Nature's Way Purewater Systems, Inc. Project Facility: Pittston Bottling Facility, Dupont Borough, Luzerne County, Pa.

Public Hearing—Projects Scheduled for Rescission Action

1. Project Sponsor and Facility: Anadarko E&P Company LP (West Branch Susquehanna River-2) (Docket No. 20090306), Renovo Borough, Clinton County, Pa.

2. Project Sponsor and Facility: Pennsylvania Food Group, LLC (Docket No. 20030411), West Donegal Township, Lancaster County, Pa.

Public Hearing—Projects Scheduled for Action

1. Project Sponsor and Facility: Anadarko E&P Company LP (Pine Creek—Jersey Mills), McHenry Township, Lycoming County, Pa. Application for surface water withdrawal of up to 1.500 mgd.

2. Project Sponsor and Facility: Anadarko E&P Company LP (West Branch Susquehanna River-4), Burnside Township, Centre County, Pa. Application for surface water withdrawal of up to 0.720 mgd.

3. Project Sponsor and Facility: Anadarko E&P Company LP (Wolf Run), Snow Shoe Township, Centre County, Pa. Application for surface water withdrawal of up to 0.499 mgd.

4. Project Sponsor: Aqua Pennsylvania, Inc. Project Facility: Monroe Manor Water System, Monroe Township, Snyder County, Pa. Application for groundwater withdrawal of up to 0.302 mgd from Well 7.

5. Project Sponsor and Facility: Carrizo Marcellus, LLC (Meshoppen Creek), Washington Township, Wyoming County, Pa. Application for surface water withdrawal of up to 2.160 mgd.

6. Project Sponsor and Facility: Carrizo Marcellus, LLC (Middle Branch Wyalusing Creek), Forest Lake Township, Susquehanna County, Pa. Application for surface water withdrawal of up to 0.432 mgd.

7. Project Sponsor and Facility: Carrizo Marcellus, LLC (Unnamed Tributary to Middle Branch Wyalusing Creek), Forest Lake Township, Susquehanna County, Pa. Application for surface water withdrawal of up to 0.720 mgd.

8. Project Sponsor and Facility: Chesapeake Appalachia, LLC (Wappasening Creek), Windham Township, Bradford County, Pa. Application for surface water withdrawal of up to 0.900 mgd.

9. Project Sponsor and Facility: Chesapeake Appalachia, LLC (Wyalusing Creek), Rush Township, Susquehanna County, Pa. Application for surface water withdrawal of up to 0.715 mgd, subject to rescission of Docket Nos. 20081227 and 20090610.

10. Project Sponsor and Facility: Chesapeake Appalachia, LLC (Wysox Creek), Rome Township, Bradford County, Pa. Application for surface water withdrawal of up to 0.504 mgd.

11. Project Sponsor and Facility: Dunn Lake LLC (Dunn Lake), Ararat Township, Susquehanna County, Pa. Application for surface water withdrawal of up to 0.999 mgd.

12. Project Sponsor: Exelon Generation Company, LLC. Project Facility: Peach Bottom Atomic Power Station, Peach Bottom Township, York County, Pa. Modification to increase consumptive water use from 32.490 mgd up to 49.000 mgd (Docket No. 20061209).

13. Project Sponsor: Exelon Generation Company, LLC. Project Facility: Three Mile Island Generating Station, Londonderry Township, Dauphin County, Pa. Application for surface water withdrawal of up to 122.800 mgd.

14. Project Sponsor: Exelon Generation Company, LLC. Project Facility: Three Mile Island Generating Station, Londonderry Township, Dauphin County, Pa. Application for consumptive water use of up to 19.200 mgd.

15. Project Sponsor and Facility: Fox Road Waterworks, LLC (South Branch Tunkhannock Creek), Tunkhannock Township, Wyoming County, Pa. Application for surface water withdrawal of up to 0.157 mgd.

16. Project Sponsor and Facility: Hydro Recovery, LP, Blossburg Borough, Tioga County, Pa. Application for groundwater withdrawal of up to 0.216 mgd from Well HR-1.

17. Project Sponsor and Facility: Hydro Recovery, LP, Blossburg Borough, Tioga County, Pa. Application for consumptive water use of up to 0.316 mgd.

18. Project Sponsor and Facility: Keystone Clearwater Solutions, LLC (Babb Creek), Morris Township, Tioga County, Pa. Application for surface water withdrawal of up to 0.950 mgd.

19. Project Sponsor and Facility: Keystone Clearwater Solutions, LLC (Driftwood Branch), Emporium Borough, Cameron County, Pa. Application for surface water withdrawal of up to 0.999 mgd.

20. Project Sponsor and Facility: Keystone Clearwater Solutions, LLC (Lycoming Creek), Lewis Township, Lycoming County, Pa. Application for surface water withdrawal of up to 0.292 mgd.

21. Project Sponsor and Facility: Keystone Clearwater Solutions, LLC (Lycoming Creek—2), Lewis Township, Lycoming County, Pa. Application for surface water withdrawal of up to 1.000 mgd.

22. Project Sponsor and Facility: LHP Management, LLC (Fishing Creek—Clinton Country Club), Bald Eagle Township, Clinton County, Pa. Modification to conditions of the withdrawal approval (Docket No. 20090906).

23. Project Sponsor and Facility: Mount Joy Borough Authority, Mount Joy Borough, Lancaster County, Pa. Application for groundwater withdrawal of up to 1.584 mgd from Well 1.

24. Project Sponsor and Facility: Mount Joy Borough Authority, Mount Joy Borough, Lancaster County, Pa. Application for groundwater withdrawal of up to 1.656 mgd from Well 2.

25. Project Sponsor and Facility: Nature's Way Purewater Systems, Inc., Covington Township, Lackawanna County, Pa. Application for groundwater withdrawal of up to 0.099 mgd from Covington Springs Well BH-1.

26. Project Sponsor and Facility: Nature's Way Purewater Systems, Inc., Dupont Borough, Luzerne County, Pa. Application for consumptive water use of up to 0.400 mgd at the Dupont Bottling Plant.

27. Project Sponsor: New Morgan Landfill Company, Inc. Project Facility: Conestoga Landfill, New Morgan Borough, Berks County, Pa. Application for groundwater withdrawal of up to 0.008 mgd from Well SW-3.

28. Project Sponsor and Facility: Seneca Resources Corporation (Genesee Forks), Pike Township, Potter County, Pa. Application for surface water withdrawal of up to 1.920 mgd.

29. Project Sponsor and Facility: Talisman Energy USA Inc. (Wappasening Creek), Windham Township, Bradford County, Pa. Application for surface water withdrawal of up to 2.000 mgd.

30. Project Sponsor and Facility: Tennessee Gas Pipeline Company (Meshoppen Creek—Loop 319), Springville Township, Susquehanna County, Pa. Application for surface water withdrawal of up to 1.090 mgd.

31. Project Sponsor and Facility: Tennessee Gas Pipeline Company (Susquehanna River—Loop 317), Asylum Township, Bradford County, Pa. Application for surface water withdrawal of up to 4.032 mgd.

32. Project Sponsor and Facility: Tennessee Gas Pipeline Company (Tioga River—Loop 315), Richmond Township, Tioga County, Pa. Application for surface water withdrawal of up to 3.140 mgd.

33. Project Sponsor and Facility: Tennessee Gas Pipeline Company (Tioga River—Loop 315), Richmond Township, Tioga County, Pa. Application for surface water withdrawal of up to 0.144 mgd.

34. Project Sponsor and Facility: Tennessee Gas Pipeline Company (Towanda Creek—Loop 317), Monroe Township, Bradford County, Pa. Application for surface water withdrawal of up to 4.032 mgd.

35. Project Sponsor and Facility: Tennessee Gas Pipeline Company (White Creek—Loop 319), Springville Township, Susquehanna County, Pa. Application for surface water withdrawal of up to 0.384 mgd.

36. Project Sponsor and Facility: Williamsport Municipal Water Authority, Williamsport City, Lycoming County, Pa. Application for groundwater withdrawal of up to 1.300 mgd from Well 10.

37. Project Sponsor and Facility: Williamsport Municipal Water Authority, Williamsport City, Lycoming County, Pa. Application for groundwater withdrawal of up to 0.700 mgd from Well 11.

Public Hearing—Projects Scheduled for Action Involving a Diversion

1. Project Sponsor: Chief Oil & Gas LLC. Project Facility: Borough of Ebensburg, Cambria Township, Cambria County, Pa. Application for an into-basin diversion of up to 0.249 mgd from the Ohio River Basin.

2. Project Sponsor: Chief Oil & Gas LLC. Project Facility: Cambria Somerset Authority, Summerhill Township, Cambria County, Pa. Application for an into-basin diversion of up to 0.249 mgd from the Ohio River Basin.

3. Project Sponsor: Chief Oil & Gas LLC. Project Facility: Highland Sewer and Water Authority, Portage Township, Cambria County, Pa. Application for an into-basin diversion of up to 0.249 mgd from the Ohio River Basin.

4. Project Sponsor: Nature's Way Purewater Systems, Inc. Project Facility: Nature's Way Springs Borehole 1 (BH-1), Foster Township, Luzerne County, Pa. Application for an into-basin diversion of up to 0.100 mgd from the Delaware River Basin.

5. Project Sponsor: Penn Virginia Oil & Gas Corporation. Project Facility: Port Allegany Borough, McKean County, Pa. Application for an into-basin diversion of up to 0.100 mgd from the Ohio River Basin.

6. Project Sponsor: SWEPI, LP. Project Facility: Pennsylvania American Water Company—Warren District, Warren City, Warren County, Pa. Application for an into-basin diversion of up to 3.000 mgd from the Ohio River Basin.

7. Project Sponsor: Triana Energy, LLC. Project Facility: Johnson Quarry, Roulette Township, Potter County, Pa. Application for an into-basin diversion of up to 0.500 mgd from the Ohio River Basin.

Public Hearing—Administrative Appeal

Administrative appeal by the Allegheny Defense Project of the March 10, 2011, Commission action approving the following dockets:

1. Docket No. 20110316. Project Sponsor: Pennsylvania General Energy Company, L.L.C. Project Facility: Scaffold Lick Pond—1, Liberty Township, McKean County, Pa., authorizing an existing into-basin diversion of up to 0.500 mgd from the Ohio River Basin.

2. Docket No. 20110317. Project Sponsor: Pennsylvania General Energy Company, L.L.C. Project Facility: Scaffold Lick Pond—2, Liberty Township, McKean County, Pa., authorizing an existing into-basin diversion of up to 0.500 mgd from the Ohio River Basin.

3. Docket No. 20110318. Project Sponsor: Ultra Resources, Inc. Project Facility: Wayne Gravel Products, Ceres Township, McKean County, Pa., authorizing an existing into-basin diversion of up to 1.170 mgd from the Ohio River Basin.

Opportunity to Appear and Comment

Interested parties may appear at the above hearing to offer written or oral comments to the Commission on any matter on the hearing agenda, or at the business meeting to offer written or oral comments on other matters scheduled for consideration at the business meeting. The chair of the Commission reserves the right to limit oral statements in the interest of time and to otherwise control the course of the hearing and business meeting. Written comments may also be mailed to the Susquehanna River Basin Commission, 1721 North Front Street, Harrisburg, Pennsylvania 17102-2391, or submitted electronically to Richard A. Cairo, General Counsel, e-mail: rcairo@srbc.net or Stephanie L. Richardson, Secretary to the Commission, e-mail: srichardson@srbc.net. Comments mailed or electronically submitted must be received prior to June 17, 2011, to be considered.

Authority: Public Law 91-575, 84 Stat. 1509 et seq., 18 CFR parts 806, 807, and 808.

Dated: May 19, 2011.
Thomas W. Beauduy,
Deputy Executive Director.

[FR Doc. 2011-13289 Filed 5-27-11; 8:45 am]

BILLING CODE 7040-01-P